DEPARTMENT OF TRANSPORTATION

Federal Aviation Administration

14 CFR Part 71

[Docket No. FAA-2010-0937; Airspace Docket No. 10-ASO-35]

Amendment of Class E Airspace; Henderson, KY

AGENCY: Federal Aviation Administration (FAA), DOT.

ACTION: Final rule; correction.

SUMMARY: This action corrects errors in the legal description of a final rule published in the Federal Register on December 20, 2010 that amends Class E airspace at Henderson, KY.

DATES: Effective 0901 UTC, March 10, 2011.

FOR FURTHER INFORMATION CONTACT: Richard Horrocks, Operations Support Group, Eastern Service Center, Federal Aviation Administration, P. O. Box 20636, Atlanta, Georgia 30320; telephone (404) 305-5588.

SUPPLEMENTARY INFORMATION:

History

Federal Register Docket No. FAA-2010-0937, Airspace Docket No. 10-ASO-35, published on December 20, 2010 (75 FR 79294), amends Class E airspace at Henderson City-County Airport, Henderson, KY. A typographical error was made in the regulatory text concerning the degree radial used; reference to the Pocket City VORTAC, Evansville, IN, will be removed; and the direction of the airspace extension corrected. This action will correct these errors. The airspace designation and regulatory text will be rewritten for clarity.

Correction to Final Rule

Accordingly, pursuant to the authority delegated to me, on page 79294, column 3, line 62, the description is corrected to read:

ASO KY E5 Henderson, KY [Corrected]

Henderson City-County Airport, KY

(Lat. 37°48′ 28″ N., long. 87°41′ 09″ W.)

That airspace extending upward from 700 feet above the surface within a 6.5-mile radius of the Henderson City-County Airport and within 1.0 miles each side of the 333° bearing extending from the 6.5-mile radius of the Henderson City-County Airport to 8.2 miles northwest of the airport.

Issued in College Park, Georgia, on February 11, 2011.
Mark D. Ward,
Manager, Operations Support Group, Eastern Service Center, Air Traffic Organization.

[FR Doc. 2011-3944 Filed 2-22-11; 8:45 am]

BILLING CODE 4910-13-P